DEPARTMENT OF COMMERCE

Bureau of Industry and Security

Order Relating to Yaming Nina Qi Hanson

In the Matter of: Yaming Nina Qi Hanson, #1003, 2 Unit, 40 Bldg., Xuriwan Garden, Xiangzhou District, Zhuhai, Guangdong Province, People's Republic of China, Respondent

Order Relating to Yaming Nina Qi Hanson

The Bureau of Industry and Security, U.S. Department of Commerce (“BIS”), has notified Yaming Nina Qi Hanson, of Zhuhai, Guangdong Province, People's Republic of China (“Qi Hanson”), of its intention to initiate an administrative proceeding against Qi Hanson pursuant to Section 766.3 of the Export Administration Regulations (the “Regulations”),¹ and Section 13(c) of the Export Administration Act of 1979, as amended (the “Act”),² through the issuance of a Proposed Charging Letter to Qi Hanson that alleges that Qi Hanson committed one violation of the Regulations. Specifically, the charge is:

¹ The Regulations are currently codified in the Code of Federal Regulations at 15 CFR parts 730-774 (2013). The charged violation occurred in 2009. The Regulations governing the violations at issue are found in the 2009 version of the Code of Federal Regulations (15 CFR parts 730-774). The 2013 Regulations set forth the procedures that apply to this matter.

² 50 U.S.C. app. 2401-2420 (2000). Since August 21, 2001, the Act has been in lapse and the President, through Executive Order 13222 of August 17, 2001 (3 CFR, 2001 Comp. 783 (2002)), which has been extended by successive Presidential Notices, the most recent being that of August 15, 2012 (77 FR 49699 (Aug. 16, 2012)), has continued the Regulations in effect under the International Emergency Economic Powers Act (50 U.S.C. 1701, et seq.) (2006 & Supp. IV 2010).

Charge 1 15 CFR 764.2(g): Misrepresentation and Concealment of Facts in the Course of an Investigation

On or about January 29, 2009, Qi Hanson made false or misleading statements to the U.S. Government in the course of an investigation. Specifically, in relation to an investigation of unlicensed exports to the People's Republic of China (“China”) of 20 autopilots, items subject to the Regulations, and valued at approximately $90,340, during an interview with a BIS special agent and an FBI special agent on or about January 29, 2009, Qi Hanson represented that several old university classmates in China provided her with $75,000 to purchase the autopilots from the Canadian seller. Qi Hanson knew at the time she made this statement to the agents that it was false and that in fact Fang Yu, President of Xi'an XiangYu Aviation Technical Group of Xian, China, had given her money to finance the entire purchase.

In so doing, Qi Hanson committed one violation of section 764.2(g) of the Regulations.

Whereas, BIS and Qi Hanson have entered into a Settlement Agreement pursuant to Section 766.18(a) of the Regulations, whereby they agreed to settle this matter in accordance with the terms and conditions set forth therein; and

Whereas, I have approved of the terms of such Settlement Agreement;

It is therefore ordered:

First, that for a period of fifteen (15) years from the date of this Order, Qi Hanson, with a last known address of #1003, 2 Unit, 40 Bldg., Xuriwan Garden, Xiangzhou District, Zhuhai, Guangdong Province, People's Republic of China, and when acting for or on her behalf, her successors, assigns, representatives, agents, or employees (hereinafter collectively referred to as “Denied Person”), may not, directly or indirectly, participate in any way in any transaction involving any commodity, software or technology (hereinafter collectively referred to as “item”) exported or to be exported from the United States that is subject to the Regulations, or in any other activity subject to the Regulations, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the Regulations, or in any other activity subject to the Regulations; or

C. Benefitting in any way from any transaction involving any item exported or to be exported from the United States that is subject to the Regulations, or in any other activity subject to the Regulations.

Second, that no person may, directly or indirectly, do any of the following:

A. Export or reexport to or on behalf of the Denied Person any item subject to the Regulations;

B. Take any action that facilitates the acquisition or attempted acquisition by the Denied Person of the ownership, possession, or control of any item subject to the Regulations that has been or will be exported from the United States, including financing or other support activities related to a transaction whereby the Denied Person acquires or attempts to acquire such ownership, possession or control;

C. Take any action to acquire from or to facilitate the acquisition or attempted acquisition from the Denied Person of any item subject to the Regulations that has been exported from the United States;

D. Obtain from the Denied Person in the United States any item subject to the Regulations with knowledge or reason to know that the item will be, or is intended to be, exported from the United States; or

E. Engage in any transaction to service any item subject to the Regulations that has been or will be exported from the United States and which is owned, possessed or controlled by the Denied Person, or service any item, of whatever origin, that is owned, possessed or controlled by the Denied Person if such service involves the use of any item subject to the Regulations that has been or will be exported from the United States. For purposes of this paragraph, servicing means installation, maintenance, repair, modification or testing.

Third, that, after notice and opportunity for comment as provided in section 766.23 of the Regulations, any person, firm, corporation, or business organization related to the Denied Person by affiliation, ownership, control, or position of responsibility in the conduct of trade or related services may also be made subject to the provisions of the Order.

Fourth, Qi Hanson shall not take any action or make or permit to be made any public statement, directly or indirectly, denying the allegations in the Proposed Charging Letter or the Order. The foregoing does not affect Qi Hanson's testimonial obligations in any proceeding, nor does it affect its right to take legal or factual positions in civil litigation or other civil proceedings in which the U.S. Department of Commerce is not a party.

Fifth, that the Proposed Charging Letter, the Settlement Agreement, and this Order shall be made available to the public.

Sixth, that this Order shall be served on Qi Hanson, and shall be published in the Federal Register.

This Order, which constitutes the final agency action in this matter, is effective immediately.

Issued this 16th day of July 2013.
David W. Mills,
Assistant Secretary of Commerce for Export Enforcement.

[FR Doc. 2013-17513 Filed 7-19-13; 8:45 am]

BILLING CODE P